DEPARTMENT OF DEFENSE

Department of the Army

Availability for Non-Exclusive, Exclusive, or Partially Exclusive Licensing of U.S. Patents and U.S. Patent Application Concerning Method for Predicting Human Cognitive Performance

Correction

In notice document 02-23003 beginning on page 57412 in the issue of Tuesday, September 10, 2002, make the following corrections:

1. On page 57412, in the third column, under the heading SUPPLEMENTARY INFORMATION, in the sixth line, “facilities” should read, “facilitates”.

2. On the same page, in the same column, under the same heading, in the tenth line, “facilities” should read, “facilitates”.

[FR Doc. C2-23003 Filed 9-17-02; 8:45 am]

BILLING CODE 1505-01-D

OFFICE OF PERSONNEL MANAGEMENT

5 CFR Part 531

RIN 3206-AJ62

Locality Pay Areas

Correction

In proposed rule document 02-23061 beginning on page 57536 in the issue of Wedensday, September 11, 2002, make the following correction:

§ 531.602 [Corrected]

On page 57537, in § 531.602, in the first column, after amendatory instruction 2., in the section heading, “§ 531.603” should read, “§ 531.602”.

[FR Doc. C2-23061 Filed 9-17-02; 8:45 am]

BILLING CODE 1505-01-D